DEPARTMENT OF HEALTH AND HUMAN SERVICES

Centers for Disease Control and Prevention

[30Day-15-14AI0]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Hospital Ambulatory Medical Care Survey (NHAMCS) Supplement of Primary Care Policies for Managing Patients with High Blood Pressure, High Cholesterol, or Diabetes (NSPCP)—New—National Center for Health Statistics (NCHS), Centers for Disease Control and Prevention (CDC).

Background and Brief Description

Cardiovascular disease is a leading cause of death and disability for men and women in the United States, among the most costly health problems facing our nation today, and among the most preventable. Risk factors for cardiovascular disease include high blood pressure and high cholesterol. Because over 50% of diabetics have high blood pressure, high cholesterol, or both conditions, the optimal systems to treat people with hypertension, high cholesterol, or diabetes are interrelated.

In 2005, CDC's Division for Heart Disease and Stroke Prevention (DHDSP) began developing evaluation indicators that reflect evidence-based outcomes from policy, systems, and environmental changes related to heart disease and stroke prevention. However, many of the indicators for short-term policy and systems changes do not have readily available data sources. This is particularly true for outcomes related to health care systems changes.

NCHS proposes to conduct a new information collection, the NSPCP. The survey will target primary care physicians specializing in internal medicine or family practice. Respondents will be drawn from a nationally representative sample of physicians. Physicians working in hospitals, federal facilities, nursing homes, rehabilitation centers and correctional facilities will not be eligible for the survey. Eligibility will be determined by phone.

The survey instrument will undergo cognitive testing before administration.

The telephone screener will be administered to the individual who answers the phone at the selected practice. We anticipate that this will likely be an office assistant or medical secretary. The primary purpose of the screener is to ensure correct contact information for the physician, so we anticipate that an office assistant or medical secretary will be able to answer the screener questions in a short amount of time. We have estimated 10 minutes per response.

Administrators of the mail-based survey will collect information about physician practices' use of evidence-based systems, including multidisciplinary team approaches for chronic disease treatment, electronic health records (EHR) with features appropriate for treating patients with chronic disease (e.g., clinical decision supports, patient registries), and patient follow-up mechanisms. Approximately 946 physicians will participate in the information collection. This is a one-time data collection effort.

CDC will use the information to examine health systems and dissemination of health systems technology. Primary care practices will use the results to inform their systems for managing patients with chronic conditions and to improve the quality of care delivered. NCHS and CDC will also use the results to improve technical assistance to public health partners.

OMB approval is requested for two years. Participation in the survey is voluntary and all responses CDC will de-identify all responses. There are no costs to respondents other than their time. The total estimated annualized burden hours are 429.

Estimated Annualized Burden Hours
Type of respondent | Form name | Number of respondents | Number responses per respondent | Average burden per response (in hours)
Physician | Cognitive Testing Screener | 25 | 1 | 5/60
Physician | Cognitive Testing Protocol | 15 | 1 | 1.25
Medical Secretary | NSPCP Screener | 1,500 | 1 | 10/60
Physician | NSPCP | 473 | 1 | 20/60

Leroy A. Richardson,
Chief, Information Collection Review Office, Office of Scientific Integrity, Office of the Associate Director for Science, Office of the Director, Centers for Disease Control and Prevention.

[FR Doc. 2015-06159 Filed 3-17-15; 8:45 am]

BILLING CODE 4163-18-P